DEPARTMENT OF COMMERCE

International Trade Administration

[A-475-824]

Notice of Extension of the Time Limit for Final Results of Antidumping Duty Administrative Review: Stainless Steel Sheet and Strip in Coils From Italy

AGENCY: Import Administration, International Trade Administration, Department of Commerce.

ACTION: Notice of extension of the time limit for final results of antidumping duty administrative review.

SUMMARY: The Department of Commerce (“the Department”) is extending the time limit for the final results of the review of stainless steel sheet and strip in coils from Italy. This review covers the period January 4, 1999 through June 30, 2000.

EFFECTIVE DATE: November 29, 2001.

FOR FURTHER INFORMATION CONTACT: Carrie Blozy, Enforcement Group III—Office 9, Import Administration, International Trade Administration, U.S. Department of Commerce, 14th Street and Constitution Avenue, NW., Washington, DC 20230; telephone (202) 482-0165.

SUPPLEMENTARY INFORMATION:

Applicable Statute

Unless otherwise indicated, all citations to the Tariff Act of 1930, as amended (“the Act”), are to the provisions effective January 1, 1995, the effective date of the amendments made to the Act by the Uruguay Round Agreements Act (“URAA”). In addition, unless otherwise indicated, all citations to the Department's regulations are to 19 CFR part 351 (2000).

Background

On September 6, 2000, the Department initiated an antidumping duty administrative review for the period of January 4, 2000 through June 30, 2001 (65 FR 58733). The Department published its preliminary results on August 8, 2001 (66 FR 41517).

Extension of Time Limit for Final Results

Section 751(a)(3)(A) of the Act states that if it is not practicable to complete the review within the time specified, the administering authority may extend the 120-day period, following the date of publication of the preliminary determination, to issue its final results by an additional 60 days. Completion of the final results within the 120-day period is not practicable because this review involves certain complex issues, including respondent's request for a constructed export price offset and numerous affiliated entities.

Therefore, in accordance with section 751(a)(3)(A) of the Act, the Department is extending the time period for issuing the final results of review by 30 days until January 7, 2002.

Dated: November 23, 2001.
Joseph A. Spetrini,
Deputy Assistant Secretary for Import Administration, Group III.

[FR Doc. 01-29670 Filed 11-28-01; 8:45 am]

BILLING CODE 3510-DS-P